FEDERAL COMMUNICATIONS COMMISSION

47 CFR Part 73

[DA 13-2003; MB Docket No. 11-167; RM-11645]

Radio Broadcasting Services; Altamont, Oregon

AGENCY: Federal Communications Commission.

ACTION: Final rule.

SUMMARY: The Audio Division, at the request of Threshold Communications, substitutes FM Channel 235C1 for Channel 249C1 at Altamont, Oregon. Channel 235C1 can be allotted at Altamont in compliance with the Commission's minimum distance separation requirements with a site restriction of 20 km (12.6 miles) northeast of Altamont, at 42-08-37 North Latitude and 121-30-19 West Longitude.

DATES: Effective November 20, 2014, and applicable November 11, 2013.

FOR FURTHER INFORMATION CONTACT: Deborah A. Dupont, Media Bureau, (202) 418-2700.

SUPPLEMENTARY INFORMATION: This is a synopsis of the Commission's Report and Order, MB Docket No. 11-167, adopted September 26, 2013, and released September 27, 2013. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC, 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see U.S.C. 801(a)(1)(A).

List of Subjects in 47 CFR Part 73

Radio, Radio broadcasting.

Federal Communications Commission.
Nazifa Sawez
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oregon is amended by removing Channel 249C1 at Altamont; and by adding Channel 235C1 at Altamont.

[FR Doc. 2014-27529 Filed 11-19-14; 8:45 am]

BILLING CODE 6712-01-P